DEPARTMENT OF EDUCATION

[Docket No.: ED-2016-ICCD-0049]

Agency Information Collection Activities; Submission to the Office of Management and Budget for Review and Approval; Comment Request; Applications for New Grants Under the Rehabilitation Services Administration (RSA) (1894-0001)

AGENCY: Office of Special Education and Rehabilitative Services (OSERS), Department of Education (ED).

ACTION: Notice.

SUMMARY: In accordance with the Paperwork Reduction Act of 1995 (44 U.S.C. chapter 3501 et seq.), ED is proposing an extension of an existing information collection.

DATES: Interested persons are invited to submit comments on or before June 2, 2016.

ADDRESSES: To access and review all the documents related to the information collection listed in this notice, please use http://www.regulations.gov by searching the Docket ID number ED-2016-ICCD-0049. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-115, Washington, DC 20202-4537.

FOR FURTHER INFORMATION CONTACT: For specific questions related to collection activities, please contact Kerrie Clark, 202-245-7281.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Applications for New Grants under the Rehabilitation Services Administration (RSA) (1894-0001).

OMB Control Number: 1820-0018.

Type of Review: An extension of an existing information collection.

Respondents/Affected Public: State, Local, and Tribal Governments.

Total Estimated Number of Annual Responses: 40.

Total Estimated Number of Annual Burden Hours: 1,600.

Abstract: The Rehabilitation Services Administration (RSA) is seeking approval to extend the current Information Collection package, OMB #1820-0018 (streamlined discretionary grants 1894-0001) in order to solicit applications for RSA's Discretionary Grant Awards authorized by the Rehabilitation Act of 1973, as amended and the Consolidated Appropriations Act, 2014 (Pub. L. 113-76) and the Consolidated and Further Continuing Appropriations Act, 2015 (Pub. L. 113-235). The discretionary program areas include Rehabilitation Long Term and Short Term Training, Demonstrations, Capacity Building projects, Interpreter Training, In-Service Training, National Clearinghouse, National Leadership Institute, Technical Assistance and Continuing Education (TACE) Centers, Service Programs, the Helen Keller National Center, Disability Innovation Fund and other discretionary grant programs approved by the Secretary. The current application package expires July 31, 2016 and in order to provide application packages to applicants, RSA is requesting an extension of the currently approved package for an additional three years.

Dated: April 27, 2016.
Tomakie Washington,
Acting Director, Information Collection Clearance Division, Office of the Chief Privacy Officer, Office of Management.

[FR Doc. 2016-10275 Filed 5-2-16; 8:45 am]

BILLING CODE 4000-01-P